DEPARTMENT OF THE INTERIOR

National Park Service

[NPS-WASO-NRNHL-11964; 2200-3200-665]

National Register of Historic Places; Notification of Pending Nominations and Related Actions

Nominations for the following properties being considered for listing or related actions in the National Register were received by the National Park Service before December 15, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by January 29, 2013. Before including your address, phone number, email address, or other personal identifying information in your comment, you should be aware that your entire comment—including your personal identifying information—may be made publicly available at any time. While you can ask us in your comment to withhold your personal identifying information from public review, we cannot guarantee that we will be able to do so.

Dated: December 21, 2012.
J. Paul Loether,
Chief, National Register of Historic Places/National Historic Landmarks Program.

ARIZONA

Yavapai County

Back Ranch Historic District, 5525 Beaver Creek Rd., Rimrock, 12001227

ARKANSAS

Arkansas County

Black, L.A., Rice Milling Association Inc. Office, 508 S. Monroe St., DeWitt, 12001229

Columbia County

Dolph Camp, Bussey and Peace Halls Historic District, E. side of Lane Dr., Magnolia, 12001231

Jefferson County

Bain, Jewel, House Number 2, 3601 S. Cherry St., Pine Bluff, 12001228

Little River County

Old US 71—Ashdown Segment, (Arkansas Highway History and Architecture MPS) N. Park Ave. between E. Main St. & US 71, Ashdown, 12001232

Old US 71—Ogden Segment, (Arkansas Highway History and Architecture MPS) Ogden & Grand Sts., W. of US 71 & E. of Kansas City Southern RR., Ogden, 12001230

Logan County

Park Hill, 400 E. Wahl St., Paris, 12001233

CALIFORNIA

Alameda County

California Cotton Mills Company Factory, 1091 Calcot Pl., Oakland, 12001234

Napa County

Tubbs, Alfred L., Winery, 1429 Tubbs Ln., Calistoga, 12001235

ILLINOIS

Cook County

42nd Precinct Police Station, 3600 N. Halstead St., Chicago, 12001236

Strand Hotel, 6315-6323 S. Cottage Grove Ave., Chicago, 12001237

West Loop—LaSalle Street Historic District, Roughly bounded by Wacker Dr., Wells, Van Buren & Clark Sts., Chicago, 12001238

KANSAS

Miami County

Congregational Church, 315 6th St., Osawatomie, 12001239

Montgomery County

Eastep Site, Address Restricted, Independence, 12001240

LOUISIANA

Orleans Parish

Plaza Tower, 1001 Howard Ave., New Orleans, 12001241

MISSOURI

Buchanan County

Ryan Block, (St. Joseph MPS (AD)) 1137-1141 Frederick Ave., Saint Joseph, 12001242

St. Louis Independent city

Alligator Oil Clothing Company Building, 4153-71 Bingham Ave., St. Louis (Independent City), 12001243

NEW JERSEY

Union County

Briant Pond Park, Bounded by Springfield Ave., Briant Pkwy. & Orchard St., Summit, 12001244

OHIO

Cuyahoga County

Herold Building, (Lower Prospect—Huron District MPS) 310 Prospect Ave., Cleveland, 12001245

Kendel Building, (Lower Prospect—Huron District MPS) 210 Prospect Ave., Cleveland, 12001246

OREGON

Douglas County

Roseburg Veterans Administration Hospital Historic District, (United States Second Generation Veterans Hospitals MPS) 913 NW. Garden Valley Blvd., Roseburg, 12001247

PUERTO RICO

Rio Grande Municipality

Rio Grande Fire Station, (Fire Stations in Puerto Rico MPS) Address Restricted, Rio Grande, 12001248

Villalba Municipality

Jones, Walter Mc K., School, (Early Twentieth Century Schools in Puerto Rico TR) 28 Luis Munoz Rivera St., Villalba, 12001249

TEXAS

Newton County

Autrey—Williams House, 717 North St., Newton, 12001251

Washington County

Seward Plantation, 10005 FM 390 E., Independence, 12001250

WISCONSIN

Ashland County

Wilmarth, Lewis C. and Caroline, House, 622 Chapple Ave., Ashland, 12001252

Milwaukee County

Root River Parkway, (Milwaukee County Parkway System MPS) Between W. Layton Ave. & S. 76th St., Greendale, 12001253

A request for removal has been made for the following resources:

ARKANSAS

McCaskill County

Jacques, Dr. Thomas S., House, NW of McCaskill, McCaskill, 89001940

TENNESSEE

Franklin County

Knies Blacksmith Shop, 118 N. Jefferson St., Winchester, 73001765

Montgomery County

Drane—Foust House, 319 Home Ave., Clarksville, 88001023

WISCONSIN

Rock County

Leedle Mill Truss Bridge, WI 1, Evansville, 80000398

[FR Doc. 2013-00505 Filed 1-11-13; 8:45 am]

BILLING CODE 4312-51-P